DEPARTMENT OF ENERGY

Federal Energy Regulatory Commission

[Project No. 2242-078]

Eugene Water and Electric Board; Notice Soliciting Revised Comments, Recommendations, Terms and Conditions, and Prescriptions

Take notice that the following hydroelectric application and revised settlement agreement have been filed with the Commission and are available for public inspection.

a. Type of Application: New Major License.

b. Project No.: Project No. 2242-078.

c. Date filed: The license application was filed on November 24, 2006; Exhibits A, C, F, and G were resubmitted on May 12. 2017. A revised settlement agreement was filed on November 30, 2016.

d. Applicant: Eugene Water and Electric Board.

e. Name of Project: Carmen-Smith Hydroelectric Project.

f. Location: On the McKenzie River in Lane and Linn counties, near the town of McKenzie Bridge, Oregon. The project occupies approximately 560 acres of the Willamette National Forest.

g. Filed Pursuant to: Federal Power Act 16 U.S.C. 791(a)-825(r).

h. Applicant Contact: Frank Lawson, General Manager, Eugene Water and Electric Board, 500 East 4th Avenue, P.O. Box 10148, Eugene, Oregon 97440-2148; (541) 685-7000.

i. FERC Contact: Dianne Rodman (202) 502-6077 or dianne.rodman@ferc.gov.

j. Deadline for filing revised comments, recommendations, terms and conditions, and prescriptions: 60 days from the issuance date of this notice; reply comments are due 105 days from the issuance date of this notice.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2242-078.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Copies of the application and revised settlement agreement are available for review at the Commission in the Public Reference Room or may be viewed on the Commission's Web site at http://www.ferc.gov using the eLibrary link. Enter the docket number excluding the last three digits in the docket number field to access the documents. For assistance, contact FERC Online Support. Copies are also available for inspection and reproduction at the address in item h above.

All filings must (1) bear in all capital letters the title COMMENTS, REPLY COMMENTS, RECOMMENDATIONS, TERMS AND CONDITIONS, or RESCRIPTIONS; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at http://www.ferc.gov/docs-filing/esubscription.asp to be notified via email of new filings and issuances related to this or other pending projects. For assistance, contact FERC Online Support.

Dated: May 24, 2017.
Kimberly D. Bose,
Secretary.

[FR Doc. 2017-11195 Filed 5-30-17; 8:45 am]

BILLING CODE 6717-01-P